DEPARTMENT OF TRANSPORTATION

Federal Railroad Administration

49 CFR Part 211

[Docket No. FRA-2024-0033, Notice No. 3]

RIN 2130-AC97

Federal Railroad Administration's Procedures for Waivers and Safety-Related Proceedings; Withdrawal

AGENCY: Federal Railroad Administration (FRA), U.S. Department of Transportation (DOT).

ACTION: Notice of proposed rulemaking (NPRM); withdrawal.

SUMMARY: FRA is withdrawing the October 29, 2024, NPRM that proposed to update FRA's procedures for waivers and safety-related proceedings to define the two components of the statutory waiver and suspension standard, “in the public interest” and “consistent with railroad safety.”

DATES: The NPRM published at 89 FR 85895 on October 29, 2024, is withdrawn as of December 31, 2024.

FOR FURTHER INFORMATION CONTACT: Veronica Chittim, Senior Attorney, Office of the Chief Counsel, at veronica.chittim@dot.gov, 202-480-3410; or Lucinda Henriksen, Senior Advisor, Office of Railroad Safety, at lucinda.henriksen@dot.gov, 202-657-2842.

SUPPLEMENTARY INFORMATION:

Background

This action withdraws an NPRM published in the Federal Register on October 29, 2024 (89 FR 85895), that proposed to update FRA's procedures for waivers and safety-related proceedings to define the two components of the statutory waiver and suspension standard, “in the public interest” and “consistent with railroad safety.” The NPRM's comment period is scheduled to close on January 15, 2025.

Reason for Withdrawal

In light of resource constraints to address the numerous rail safety matters before the agency and because FRA has previously issued guidance on the subject matter covered by the NPRM,¹ FRA has decided to withdraw the NPRM. FRA may pursue similar regulations in the future and will consider updating the existing guidance.

¹ https://railroads.dot.gov/elibrary/guidance-submitting-requests-waivers-block-signal-applications-and-other-approval-requests; 88 FR 1448 (Jan. 10, 2023).

Despite the decision not to move forward with the proposed rule at this time, FRA appreciates and takes seriously the thoughtful perspectives raised by stakeholders concerning the waiver process. FRA will continue engaging with its stakeholders on all rail safety matters.

Conclusion

The NPRM published in the Federal Register on October 29, 2024 (89 FR 85895), is hereby withdrawn.

Authority: 49 U.S.C. 20103, 20107, 20114, 20306, 20502-20504, and 49 CFR 1.89.

Issued in Washington, DC.
Allison Ishihara Fultz,
Chief Counsel.

[FR Doc. 2024-31065 Filed 12-30-24; 8:45 am]

BILLING CODE 4910-06-P